TENNESSEE VALLEY AUTHORITY

Environmental Impact Statement for Johnsonville Fossil Plant Ash Impoundment Closure

AGENCY: Tennessee Valley Authority.

ACTION: Notice of intent.

SUMMARY: The Tennessee Valley Authority (TVA) intends to prepare an Environmental Impact Statement (EIS) to address the potential environmental effects associated with the future management of coal combustion residuals (CCR) material at the Johnsonville Fossil Plant (JOF) located in Humphreys County, Tennessee. The purpose of this EIS is to address the disposition of Ash Pond 2 at JOF, to support the implementation of TVA's goal to eliminate all wet CCR storage at its coal plants by closing CCR surface impoundments across the TVA system, and to assist TVA in complying with the United States Environmental Protection Agency (EPA) CCR Rule and other applicable federal and state statutes and regulations. TVA will evaluate the closure of JOF Ash Pond 2 and will develop and evaluate various alternatives for closure including the No Action Alternative. One alternative identified by TVA is Closure-in-Place of Ash Pond 2. Another alternative is Closure-by-Removal of Ash Pond 2. TVA is considering four options for disposal of the CCR removed from Ash Pond 2, including transport and disposal of CCR in an existing offsite permitted landfill, transport and disposal of CCR to a new onsite landfill, transport and disposal of CCR to both an existing offsite permitted landfill and a new onsite landfill, and transport of CCR to a beneficial re-use processing facility to be processed for use in concrete and other building materials with any unusable CCR and excavated soil material going to an existing offsite or new onsite permitted landfill.

TVA has identified a potential location for a new onsite landfill. TVA has not selected a potential offsite landfill for disposal of CCR from JOF, and no specific provider of the beneficiation services or specific site at which a beneficial re-use processing facility would be constructed has been developed at this time. Therefore, impacts of these options for CCR disposal would be based on the most impactful or “bounding” characteristics of CCR transport to suitable existing landfills or to a beneficial re-use processing facility. Similarly, the potential effects of construction and operation of the beneficial re-use processing facility will be evaluated using `bounding” attributes obtained from candidate beneficiation vendors. Public comments are invited concerning both the scope of the review and environmental issues that should be addressed. No decisions have been made about the final disposition of CCR storage at COF Ash Pond 2.

DATES: Comments on the scope of the EIS must be received on or before December 20, 2019.

ADDRESSES: Written comments should be sent to W. Douglas White, NEPA Compliance Specialist, 400 W. Summit Hill Drive, WT 11B-K, Knoxville, TN 37902. Comments also may be submitted online at: https://www.tva.gov/nepa or by email to wdwhite0@tva.gov.

FOR FURTHER INFORMATION CONTACT: Other related questions should be sent to W. Douglas White, NEPA Compliance Specialist, Tennessee Valley Authority, at 865-632-2252 or wdwhite0@tva.gov.

SUPPLEMENTARY INFORMATION: This notice is provided in accordance with the Council on Environmental Quality's regulations (40 CFR parts 1500 to 1508) and TVA's procedures for implementing the National Environmental Policy Act (NEPA) and Section 106 of the National Historic Preservation Act (NHPA) and its implementing regulations (36 CFR part 800).

TVA Power System and CCR Management

TVA is a corporate agency and instrumentality of the United States created by and existing pursuant to the TVA Act of 1933 that provides electricity for business customers and local power distributors. TVA serves more than 9 million people in parts of seven southeastern states. TVA receives no taxpayer funding, deriving virtually all of its revenues from sales of electricity. In addition to operating and investing its revenues in its electric system, TVA provides flood control, navigation and land management for the Tennessee River system and assists local power companies and state and local governments with economic development and job creation.

JOF had ten coal-fired generating units that had a combined capacity of 1,254 megawatts. Units 5 through 10 ceased power generation in 2012 and were retired on December 31, 2015. Units 1 through 4 ceased operation and were retired on December 31, 2017. While in operation, JOF consumed approximately 3.5 million tons of coal per year and produced approximately 7,195 million kilowatt-hours of electricity a year. CCR produced as a by-product to burning coal by the collective units was wet-sluiced to Ash Pond 2. It is estimated that approximately 4.6 million cubic yards (yd³) of CCR material remains in JOF Ash Pond 2.

Historically, TVA has managed its CCR in wet impoundments or dry landfills. In July 2009, the TVA Board of Directors passed a resolution for staff to review TVA practices for storing CCRs at its generating facilities, including JOF, which resulted in a recommendation to convert the wet ash management system at JOF to a dry storage system. On April 17, 2015, the EPA published the final Disposal of CCR from Electric Utilities rule, also known as the CCR Rule.

In June 2016, TVA issued a Final Programmatic Environmental Impact Statement (PEIS) that analyzed methods for closing CCR impoundments at TVA fossil plants and identified specific screening and evaluation factors to help frame its evaluation of closures at its other facilities. A Record of Decision was released in July 2016 that would allow future environmental reviews of qualifying CCR impoundment closures to tier from the PEIS. The PEIS can be found at www.tva.com/nepa. This EIS is intended to tier from the 2016 PEIS to evaluate the closure alternatives for the JOF Ash Pond 2.

Alternatives

In addition to a No Action Alternative, this EIS will address alternatives that meet the purpose and need for the project. TVA plans to consider the following: (1) Closure-in-Place of Ash Pond 2, (2) Closure-by-Removal of Ash Pond 2 to an Existing Offsite Landfill, (3) Closure-by-Removal of Ash Pond 2 to a New Onsite Landfill, (4) Closure-by-Removal of Ash Pond 2 to an Existing Offsite and New Onsite Landfill, and (5) Closure-by-Removal of Ash Pond 2 to an Offsite Beneficial Re-use Processing Facility with unusable CCR and excavated soil material going to an existing offsite or new onsite permitted landfill.

No decision has been made about the final disposition of CCR storage at JOF. TVA is preparing this EIS to inform decision makers, other agencies, and the public about the potential for environmental impacts associated with the final disposition of CCR at JOF Ash Pond 2.

Proposed Resources and Issues to be Considered

This EIS will identify the purpose and need of the project and will contain descriptions of the existing environmental and socioeconomic resources within the area that could be affected by the management and final disposition of CCR at JOF. Evaluation of potential environmental impacts to these resources will include, but not be limited to, air quality, climate change, water quality, groundwater, geology and soils, aquatic and terrestrial ecology, threatened and endangered species, wetlands, floodplains, land use, noise, transportation, visual resources, historic and archaeological resources, solid and hazardous waste, safety, socioeconomic and environmental justice issues, and natural areas, parks, and recreation. The final range of issues to be addressed in the environmental review will be determined, in part, from scoping comments received. The preliminary identification of reasonable alternatives and environmental issues in this notice is not meant to be exhaustive or final.

Public Participation

TVA is committed to an open process and wants input from the community. The public is invited to submit comments on the scope of this EIS no later than the date identified in the DATES section of this notice. Federal, state and local agencies and Native American Tribes are also invited to provide comments.

After consideration of comments received during the scoping period, TVA will develop and distribute a scoping document that will summarize public and agency comments that were received and provide a schedule for completing the EIS process. Following analysis of the affected resources, TVA will prepare a draft EIS for public review and comment. A final decision on proceeding with the management and final disposal of CCR and closure of the Ash Pond 2 surface impoundment will be based on a number of factors including public comments, the conclusions of the EIS, the requirements of the CCR Rule, relevant state law requirements, engineering and risk evaluations, and financial considerations.

TVA expects to release the Draft EIS in late 2020. TVA anticipates holding a community meeting near JOF after releasing the Draft EIS. Meeting details will be posted on TVA's website and advertised in local media.

Authority: 40 CFR 1501.7.

M. Susan Smelley,
Director, Environmental Compliance and Operations.

[FR Doc. 2019-24830 Filed 11-14-19; 8:45 am]

BILLING CODE 8120-08-P